DEPARTMENT OF DEFENSE

Office of the Secretary

Termination of the Defense Acquisition University Board of Visitors

AGENCY: Department of Defense.

ACTION: Termination of Federal Advisory committee.

SUMMARY: The Department of Defense is publishing this notice to announce that it is terminating the Defense Acquisition University Board of Visitors (“the Board”), effective April 15, 2019.

FOR FURTHER INFORMATION CONTACT: Jim Freeman, Advisory Committee Management Officer for the Department of Defense, 703-692-5952.

SUPPLEMENTARY INFORMATION: The Board is being terminated under the provisions of the Federal Advisory Committee Act (FACA) of 1972 (5 U.S.C., Appendix) and 41 CFR 102-3.55, and the Government in the Sunshine Act of 1976 (5 U.S.C. 552b), effective April 15, 2019.

Dated: April 8, 2019.
Aaron T. Siegel,
Alternate OSD Federal Register Liaison Officer, Department of Defense.

[FR Doc. 2019-07234 Filed 4-11-19; 8:45 am]

BILLING CODE 5001-06-P